DEPARTMENT OF THE INTERIOR

National Park Service

[NPS-WASO-NAGPRA-NPS0024050; PPWOCRADN0-PCU00RP14.R50000]

Notice of Inventory Completion: U.S. Department of Defense, Defense Health Agency, National Museum of Health and Medicine, Silver Spring, MD

AGENCY: National Park Service, Interior.

ACTION: Notice.

SUMMARY: The U.S. Department of Defense, Defense Health Agency, National Museum of Health and Medicine, has completed an inventory of human remains, in consultation with the appropriate Indian Tribes or Native Hawaiian organizations, and has determined that there is no cultural affiliation between the human remains and any present-day Indian Tribes or Native Hawaiian organizations. Representatives of any Indian tribe or Native Hawaiian organization not identified in this notice that wish to request transfer of control of these human remains should submit a written request to the National Museum of Health and Medicine. If no additional requestors come forward, transfer of control of the human remains to the Indian Tribes or Native Hawaiian organizations stated in this notice may proceed.

DATES: Representatives of any Indian tribe or Native Hawaiian organization not identified in this notice that wish to request transfer of control of these human remains should submit a written request with information in support of the request to the National Museum of Health and Medicine at the address in this notice by November 16, 2017.

ADDRESSES: Mr. Brian F. Spatola, Curator of Anatomical Division, National Museum of Health and Medicine, U.S. Army Garrison Forest Glen, 2500 Linden Lane, Silver Spring, MD 20910, telephone (301) 319-3353, email brian.f.spatola.civ@mail.mil.

SUPPLEMENTARY INFORMATION: Notice is here given in accordance with the Native American Graves Protection and Repatriation Act (NAGPRA), 25 U.S.C. 3003, of the completion of an inventory of human remains under the control of the National Museum of Health and Medicine, Silver Spring, MD. The human remains were removed from the Three Rivers Landing on the Tombigbee River (site 1WN76), Washington County, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the National Museum of Health and Medicine professional staff in consultation with representatives of the Absentee-Shawnee Tribe of Indians of Oklahoma; Alabama-Coushatta Tribe of Texas (previously listed as the Alabama-Coushatta Tribes of Texas); Alabama-Quassarte Tribal Town; Cherokee Nation; Chitimacha Tribe of Louisiana; Coushatta Tribe of Louisiana; Eastern Band of Cherokee Indians; Eastern Shawnee Tribe of Oklahoma; Jena Band of Choctaw Indians; Kialegee Tribal Town; Mississippi Band of Choctaw Indians; Poarch Band of Creeks (previously listed as the Poarch Band of Creek Indians of Alabama); Seminole Tribe of Florida (previously listed as the Seminole Tribe of Florida (Dania, Big Cypress, Brighton, Hollywood & Tampa Reservations)); Shawnee Tribe; The Chickasaw Nation; The Choctaw Nation of Oklahoma; The Muscogee (Creek) Nation; The Quapaw Tribe of Indians; The Seminole Nation of Oklahoma; Thlopthlocco Tribal Town; Tunica-Biloxi Indian Tribe; and the United Keetoowah Band of Cherokee Indians in Oklahoma (“The Tribes”).

History and Description of the Remains

In 1905, human remains representing, at minimum, one individual were removed from the Three Rivers Landing on the Tombigbee River (site 1WN76), Washington County, AL, by Clarence B. Moore, during an archeological investigation of burial mounds. Artifacts were present at the time of excavation, but were not retained with the human remains. The human remains were donated to the Army Medical Museum by Clarence B. Moore in 1905. The date of the site associated with the human remains is approximately A.D. 200 to 1540. The remains consist of a partial femur and an innominate bone. Age could not be identified. Sex is female based on morphological features of the innominate bone. No known individuals were identified. No associated funerary objects are present.

Determinations Made by the National Museum of Health and Medicine

Officials of the National Museum of Health and Medicine have determined that:

• Pursuant to 25 U.S.C. 3001(9), the human remains described in this notice are Native American based on: Osteological evidence, collection history, artifacts, and association with prehistoric archeological sites.

• Pursuant to 25 U.S.C. 3001(9), the human remains described in this notice represent the physical remains of one individual of Native American ancestry.

• Pursuant to 25 U.S.C. 3001(2), a relationship of shared group identity cannot be reasonably traced between the Native American human remains and any present-day Indian tribe.

• Treaties, Acts of Congress, or Executive Orders, indicate that the land from which the Native American human remains were removed is the aboriginal land of The Choctaw Nation of Oklahoma.

• Pursuant to 43 CFR 10.11(c)(1)(ii), the disposition of the human remains may be to The Choctaw Nation of Oklahoma.

Additional Requestors and Disposition

Representatives of any Indian tribe or Native Hawaiian organization not identified in this notice that wish to request transfer of control of these human remains should submit a written request with information in support of the request to Mr. Brian F. Spatola, Curator of Anatomical Division, National Museum of Health and Medicine, U.S. Army Garrison Forest Glen, 2500 Linden Lane, Silver Spring, MD 20910, telephone (301) 319-3353, email brian.f.spatola.civ@mail.mil, by November 16, 2017. After that date, if no additional requestors have come forward, transfer of control of the human remains to The Choctaw Nation of Oklahoma may proceed.

The National Museum of Health and Medicine is responsible for notifying The Tribes that this notice has been published.

Dated: August 22, 2017.
Melanie O'Brien,
Manager, National NAGPRA Program.

[FR Doc. 2017-22434 Filed 10-16-17; 8:45 am]

BILLING CODE 4312-52-P